DEPARTMENT OF COMMERCE

International Trade Administration

[Application No. 03-3A008]

Export Trade Certificate of Review

ACTION: Notice of Application to Amend the Export Trade Certificate of Review Issued to California Pistachio Export Council, Application Number 03-3A008.

SUMMARY: The Office of Trade and Economic Analysis (OTEA) of the International Trade Administration, Department of Commerce, has received an application to amend an Export Trade Certificate of Review (Certificate). This notice summarizes the proposed amendment and requests comments relevant to whether the amended Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. Sections 4001-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its application.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 03-3A008.”

Summary of the Application

Applicant: CPEC, 512 C. St. NE., Washington, DC 20002.

Contact: Robert Schramm, Telephone: (202) 543-4455.

Application No.: 03-3A008.

Date Deemed Submitted: June 15, 2017.

Proposed Amendment: CPEC seeks to amend its Certificate as follows:

• Remove Horizon Marketing Agency in Common Cooperative Inc. as a Member

• Add the following new Members:

○ Arizona Nut Company, LLC (controlling entity A&P Ranch, L.P.)

○ Horizon Growers Cooperative, Inc.

CPEC's proposed amendment of its Certificate would result in the following Members list:

Arizona Nut Company, LLC

ARO Pistachios, Inc.

Horizon Growers Cooperative, Inc.

Keenan Farms, Inc.

Monarch Nut Company

Nichols Pistachio

Primex Farms, LLC

Setton Pistachio of Terra Bella, Inc.

Zymex Industries, Inc.

Dated: June 23, 2017.
Joseph E. Flynn,
Director, Office of Trade and Economic Analysis, International Trade Administration, U.S. Department of Commerce.

[FR Doc. 2017-13577 Filed 6-28-17; 8:45 am]

BILLING CODE 3510-DR-P